SMALL BUSINESS ADMINISTRATION

[Declaration of Disaster #3349]

State of Florida

As a result of the President's major disaster declaration on June 17, 2001, I find that Gadsden, Jefferson, Leon, Liberty, and Wakulla Counties in the State of Florida constitute a disaster area due to damages caused by Tropical Storm Allison occurring on June 11 and continuing through June 15, 2001. Applications for loans for physical damage as a result of this disaster may be filed until the close of business on August 16, 2001 and for economic injury until the close of business on March 18, 2002 at the address listed below or other locally announced locations: U.S. Small Business Administration, Disaster Area 2 Office, One Baltimore Place, Suite 300, Atlanta, GA 30308.

In addition, applications for economic injury loans from small businesses located in the following contiguous counties in Florida may be filed until the specified date at the above location: Calhoun, Franklin, Gulf, Jackson, Madison, and Taylor; and Brooks, Decatur, Grady, Seminole, and Thomas counties in the State of Georgia.

The interest rates are:

| Percent
For Physical Damage:
Homeowners with credit available elsewhere | 6.625
Homeowners without credit available elsewhere | 3.312
Businesses with credit available elsewhere | 8.000
Businesses and non-profit organizations without credit available elsewhere | 4.000
Others (including non-profit organizations) with credit available elsewhere | 7.125
For Economic Inquiry:
Businesses and small agricultural cooperatives without credit available elsewhere | 4.000

The number assigned to this disaster for physical damage is 334908. For economic injury the number is 9L9200 for Florida, and 9L9300 for Georgia.

(Catalog of Federal Domestic Assistance Program Nos. 59002 and 59008)
Dated: June 18, 2001.
Herbert L. Mitchell,
Associate Administrator for Disaster Assistance.

[FR Doc. 01-15738 Filed 6-21-01; 8:45 am]

BILLING CODE 8025-01-P